DEPARTMENT OF LABOR

Employment and Training Administration

[TA-W-65,830]

Maggy London International, Ltd., Production Department, New York, NY; Notice of Termination of Investigation

Pursuant to Section 221 of the Trade Act of 1974, as amended, an investigation was initiated on April 21, 2009, in response to a petition filed on behalf of workers at Maggy London International, Ltd., Production Department, New York, New York.

The petitioners have requested that the petition be withdrawn. Consequently, the investigation has been terminated.

Signed at Washington, DC, this 11th day of May 2009.
Richard Church,
Certifying Officer, Division of Trade Adjustment Assistance.

[FR Doc. E9-13455 Filed 6-8-09; 8:45 am]

BILLING CODE 4510-FN-P